DEPARTMENT OF COMMERCE

Foreign-Trade Zones Board

[Order No. 2000]

Reorganization and Expansion of Foreign-Trade Zone 21 Under Alternative Site Framework; Charleston, South Carolina

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the South Carolina State Ports Authority, grantee of Foreign-Trade Zone 21, submitted an application to the Board (FTZ Docket B-14-2015, docketed February 25, 2015) for authority to reorganize and expand under the ASF with a service area of the Counties of Charleston, Berkeley, Dorchester, Orangeburg, Williamsburg, Georgetown, Horry (portion), Florence (portion), Marion (portion), Colleton, Jasper, Hampton and Beaufort, in and adjacent to the Charleston (South Carolina), Georgetown (South Carolina) and Savannah (Georgia) Customs and Border Protection ports of entry, FTZ 21's existing Sites 5 (as modified), 9, 16 and 18 would be categorized as magnet sites, and the grantee proposes seven initial usage-driven sites (Sites 6, 15, 26, 28, 30, 31 and 32);

Whereas, notice inviting public comment was given in the Federal Register (80 FR 11632-11633, March 4, 2015) and the application has been processed pursuant to the FTZ Act and the Board's regulations; and,

Whereas, the Board adopts the findings and recommendation of the examiner's report, and finds that the requirements of the FTZ Act and the Board's regulations are satisfied if approval of the service area is limited to the Counties of Charleston, Berkeley, Dorchester, Orangeburg, Williamsburg, Georgetown, Colleton, Jasper, Hampton and Beaufort;

Now, therefore, the Board hereby orders:

The application to reorganize and expand FTZ 21 under the ASF is approved with a service area of the Counties of Charleston, Berkeley, Dorchester, Orangeburg, Williamsburg, Georgetown, Colleton, Jasper, Hampton and Beaufort, subject to the FTZ Act and the Board's regulations, including Section 400.13, to the Board's standard 2,000-acre activation limit for the zone, to an ASF sunset provision for magnet sites that would terminate authority for Sites 9, 16 and 18 if not activated within five years from the month of approval, and to an ASF sunset provision for usage-driven sites that would terminate authority for Sites 6, 15, 26, 28, 30, 31 and 32 if no foreign-status merchandise is admitted for a bona fide customs purpose within three years from the month of approval.

Signed at Washington, DC, this 2nd day of June 2016.
Paul Piquado, Andrew McGilvray,
Executive Secretary.

[FR Doc. 2016-13947 Filed 6-10-16; 8:45 am]

BILLING CODE 3510-DS-P